Proclamation 7986 of February 27, 2006

Save Your Vision Week, 2006

By the President of the United States of America

A Proclamation

Many Americans suffer from diseases and disorders of the eye that can affect their vision and quality of life. During Save Your Vision Week, we highlight how basic eye care and protection can help citizens maintain and enjoy healthy eyesight.

An important part of ensuring physical well-being includes making healthy choices and adopting habits that can prevent disease and injury. Many of the problems that lead to blindness each year can be avoided with simple steps to protect the eyes, such as wearing sunglasses and using protective eyewear while working in hazardous environments or participating in sports.

Because the first noticeable symptom of many eye diseases is often vision loss, early detection is vital. As a result of the Medicare Modernization Act, diabetes screenings and glaucoma tests for eligible beneficiaries are now covered by Medicare as a part of an initial physical exam for new Medicare beneficiaries. Medicare also covers glaucoma screenings for beneficiaries with diabetes who are at high risk or have a family history of the disease. I encourage America's seniors to act to preserve their vision by taking advantage of this health care benefit. And I urge all Americans to have regular eye examinations as part of their health care routines.

By raising awareness about the importance of preventing eye problems and the measures citizens can take to protect their vision and by providing greater access for the detection and treatment of eye diseases, we can continue to work toward a healthier Nation where more Americans enjoy the gift of healthy vision.

The Congress, by joint resolution approved December 30, 1963, as amended (77 Stat. 629; 36 U.S.C. 138), has authorized and requested the President to proclaim the first week in March of each year as “Save Your Vision Week.”

NOW, THEREFORE, I, GEORGE W. BUSH, President of the United States of America, do hereby proclaim March 5 through March 11, 2006, as Save Your Vision Week. I encourage all Americans to make eye care and eye safety an important part of their lives.

IN WITNESS WHEREOF, I have hereunto set my hand this twenty-seventh day of February, in the year of our Lord two thousand six, and of the Independence of the United States of America the two hundred and thirtieth.

B

[FR Doc. 06-2083

Filed 3-1-06; 12:05 pm]

Billing code 3195-01-P